DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than April 7, 2016.

ADDRESSES: Submit your comments, including the Information Collection Request Title, to the desk officer for HRSA, either by email to OIRA_submission@omb.eop.gov, or by fax to 202-395-5806.

FOR FURTHER INFORMATION CONTACT: To request a copy of the clearance requests submitted to OMB for review, email the HRSA Information Collection Clearance Officer at paperwork@hrsa.gov, or call (301) 443-1984.

SUPPLEMENTARY INFORMATION: Information Collection Request Title: Telehealth Resource Center Performance Measurement Tool. OMB No. 0915-0361—Revision

Abstract: To ensure the best use of public funds and to meet the Government Performance Review Act requirements, the Federal Office of Rural Health's Office for the Advancement of Telehealth (OAT) in collaboration with the Telehealth Resource Centers (TRCs) created a set of performance measures that grantees can use to evaluate the technical assistance services provided by the TRCs. Grantee goals are to customize the provision of telehealth technical assistance across the country. The TRCs provide technical assistance to health care organizations, health care networks, and health care providers in the implementation of cost-effective telehealth programs to serve rural and medically underserved areas and populations.

Need and Proposed Use of the Information: The revised measures will be used to evaluate the effectiveness of the technical assistance. The tool will also be used to address GPRA requirements and to report to Congress the value added from the TRC Grant Program; justification for budget request; measure performance relative to the mission of OAT/HRSA, as well as individual goals and objectives of the program; identify topics of interest for future special studies; identify changes in healthcare needs within rural communities, allowing programs to shift focus in order to meet those needs; and collect uniform consistent data and provide guidance to grantees.

Likely Respondents: The likely respondents will be telehealth associations, telehealth providers, rural health providers, clinicians that deliver services via telehealth, technical assistance providers, research organizations, and academic medical centers.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Telehealth Resource Center Performance Data Collection | 14 | 42 | 588 | 0.07 | 41.16
Total | 14 | 42 | 588 | 0.07 | 41.16

Jackie Painter,
Director, Division of the Executive Secretariat.

[FR Doc. 2016-05070 Filed 3-7-16; 8:45 am]

BILLING CODE 4165-15-P